DEPARTMENT OF THE INTERIOR

Fish and Wildlife Service

Notice of Availability of the Draft Comprehensive Conservation Plan and Environmental Assessment for Wheeler National Wildlife Refuge Complex in Limestone, Madison, and Morgan Counties, AL

AGENCY: Fish and Wildlife Service, Interior.

ACTION: Notice of availability.

SUMMARY: We, the Fish and Wildlife Service, announce that a Draft Comprehensive Conservation Plan and Environmental Assessment (Draft CCP/EA) for Wheeler National Wildlife Refuge Complex is available for review and comment. The National Wildlife Refuge System Administration Act of 1966, as amended by the National Wildlife Refuge System Improvement Act of 1997, requires the Service to develop a CCP for each national wildlife refuge. This Draft CCP, when final, will describe how we intend to manage the Wheeler National Wildlife Refuge Complex over the next 15 years.

DATES: To ensure consideration, we must receive your comments no later than May 7, 2007.

ADDRESSES: Send your comments or requests for more information to: John Beck, Natural Resource Planner, Wheeler National Wildlife Refuge Complex, 2700 Refuge Headquarters Road, Decatur, AL 35603; Telephone 256/353-7243 ext. 32. Your comments may be sent electronically to: John_Beck@fws.gov with a subject line, “Draft CCP Comments: Wheeler NWR Complex.” The Draft CCP/EA may be accessed and downloaded from the Service's Internet Web site http://southeast.fws.gov/planning/.

SUPPLEMENTARY INFORMATION: The Wheeler National Wildlife Refuge Complex is currently comprised of seven refuges, spreading across 12,500 square miles of northern Alabama. In addition, the Wheeler Complex administers five Farm Service Agency conservation easement tracts. This draft plan covers four of the seven refuges. These refuges and their establishing dates are as follows: Wheeler (1938); Key Cave (1997); Sauta Cave, formerly known as Blowing Wind Cave (1978); and Fern Cave (1981). The other three refuges, Cahaba River (2002), Mountain Longleaf (2003), and Watercress Darter (1980), will be addressed at a later date in a separate comprehensive conservation plan.

Wheeler Refuge is located among the cities of Athens, Decatur, and Huntsville. The refuge was established in 1938 by Executive Order 7926 as a breeding ground for migratory birds and other wildlife. Additional purposes were added later under the authorities of the Migratory Bird Conservation Act of 1929, and the Refuge Recreation Act of 1962. This 37,000-acre refuge is overlaid on the middle third of the Tennessee Valley Authority's Wheeler Reservoir with property in Limestone, Madison, and Morgan Counties. Refuge lands were acquired in 1934 and 1935 by the Tennessee Valley Authority to serve as a buffer strip for the reservoir, which was impounded a year later in 1936.

Considered the eastern most national wildlife refuge in the Mississippi Flyway, Wheeler provides winter habitat for the state's largest duck population and formerly supported the southernmost and Alabama's only major concentration of wintering Canada geese. Snow geese are now the most prominent component of the winter goose population.

The refuge consists of approximately 25,950 acres of land and 11,250 acres of water. Habitats consist of bottomland hardwoods, mixed hardwoods, pine uplands, shallow water embayments, and agricultural fields that support interesting flora; a bird list of 288 species; and a wide variety of mammals, reptiles, amphibians, and fishes. It is well developed with more than 100 miles of graveled roads, 2,500 acres of managed wetlands, a modern Headquarters Complex with a large Visitor Center and a Waterfowl Observation Building. Approximately 700,000 visitors are reported annually.

Key Cave Refuge was established in 1997 under the authority of the Fish and Wildlife Act of 1956, the Endangered Species Act of 1973, and the National Wildlife Refuge Administration Act of 1966 to ensure that the biological integrity of Key Cave, Collier Cave, and Collier Bone Cave remains intact. Key Cave is the only known refuge for the federally endangered Alabama cavefish (Speoplatyrhinus poulsoni). It is on the northern shore of Pickwick Lake in a limestone karst area that contains numerous sinkholes and several underground cave systems. The area's sinkholes are an integral component of groundwater recharge to the caves.

Prior to 1992, the Monsanto Company owned a large 1,060-acre-tract of land just north of Key Cave and about five miles southwest of Florence, Lauderdale County, Alabama, in the high hazard risk area of the Key Cave Aquifer. In 1992 the company sold this tract to The Conservation Fund. Five years later, the Service acquired the land and established Key Cave Refuge.

In addition to the Alabama cavefish, Key Cave Refuge also serves as a priority one maternity cave for the federally endangered gray bat (Myotis grisescens), as well as habitat for two species of blind crayfish (Procambarus pecki and Cambarus jonesi). Collier Cave, located approximately 1.5 miles upstream from Key Cave, and Collier Bone Cave are also considered potential habitat for these cave species. Cave entrances are located on Tennessee Valley Authority lands on the northern shore of Pickwick Lake. Furthermore, the refuge provides habitat for a variety of migratory and resident wildlife species. Several priority bird species commonly occurring on the refuge include: dickcissel, grasshopper sparrow, field sparrow, northern bobwhite, northern harrier, and short-eared owl.

Sauta Cave Refuge, known as Blowing Wind Cave Refuge until 1999, lies just above the Sauty Creek embayment of the Tennessee Valley Authority's Guntersville Reservoir, seven miles west of Scottsboro, Jackson County, Alabama. The refuge consists of 264 acres of hardwood forest established in 1978 under the authority of the Endangered Species Act of 1973 to provide protection for the federally endangered gray bat and the Indiana bat (Myotis sodalis) and their crucial habitat. The cave provides a summer roosting site for about 300,000-400,000 gray bats and a winter hibernaculum for both bats.

Besides the endangered bats, many other species occur in the cave, including the Tennessee cave salamander (Gyrinophilus palleucus) and the cave salamander (Eurycea lucifuga). Additionally, a relatively large population (>250 individuals) of Price's potato-bean (Apios priceana), a federally threatened plant species, is found on the refuge. The cave has upper and lower gated entrances and 14,628 feet of mapped passage. Formations in the lower cave have been described as spectacular and petroglyphs have been found on the cave ceilings. The cave was used as a saltpeter mine during the civil war, a nightclub during the 1920s, and a fallout shelter during the 1960s. All 264 acres of habitat outside of the cave are predominately hardwood forest.

Fern Cave Refuge was established in 1981 under the authority of the Endangered Species Act of 1973 to provide protection for the endangered gray bat and the Indiana bat. The refuge is 20 miles west of Scottsboro and two miles northeast of Paint Rock in Jackson County, Alabama, and consists of 199 acres of forested hillside underlain by a massive cave with many stalactite- and stalagmite-filled rooms. An additional 299 acres of land are included in the approved acquisition boundary of the refuge.

The cave itself has five hidden entrances, with four of these currently occurring on the refuge. The fifth entrance (Surprise Pit) is within the approved acquisition boundary for the refuge. Recent estimates indicate that one million gray bats hibernate in the cave, making it the largest wintering colony of gray bats in the United States. In the past, the threatened American Hart's-tongue fern (Phyllitis scolopendrum var. americana) has been found on the refuge.

Significant issues addressed in the draft plan include: threatened and endangered species conservation; waterfowl management; wildlife monitoring and population surveys, invasive/exotic species control; bottomland hardwood restoration; agriculture; visitor services (e.g., hunting, fishing, wildlife observation, wildlife photography, and environmental education and interpretation); funding and staffing; cultural resources protection; land and visitor protection; urban encroachment; and water quality issues. We developed four alternatives for managing the Wheeler Complex and chose Alternative D as the proposed alternative. These alternatives are briefly described as follows:

Alternative A, the no-action alternative, would continue current Complex management practices. We would not initiate any significant changes. Management emphasis would continue to focus on maintaining biological integrity of habitats found on each refuge in the Complex. All management actions would be directed towards achieving the Complex's primary purposes, including (1) conserving wintering waterfowl habitat; (2) meeting the habitat conservation goals of national and international plans; and (3) conserving wetlands, all while contributing to other national, regional, and state goals to protect and restore migratory birds, threatened and endangered species, and resident species. Alternative A represents the anticipated conditions of each refuge for the next 15 years assuming current policies, programs, and activities continue.

Refuge management programs would continue to be developed and implemented with limited baseline biological information. Active habitat management would be conducted through water level manipulations and moist-soil, cropland, and forest management designed to provide a diverse complex of habitats that meets the foraging, resting, and breeding requirements for a variety of species. Hunting and fishing would continue to be major focuses of the public use program, with no expansion of current opportunities. Current restrictions or prohibitions would remain. Environmental education, wildlife observation, and wildlife photography would be accommodated at present levels.

Alternative B would maximize compatible wildlife-dependent public use. It would provide for more public use recreational opportunities, while maintaining current habitat and wildlife management programs. Additional staff and/or resources would be dedicated to increasing compatible wildlife-dependent public use opportunities. Most habitat management programs, including the cooperative farming program, would continue; however, habitat improvement projects that would benefit compatible wildlife-dependent public use opportunities would be given a higher priority. Law enforcement activities to provide visitor safety would be intensified.

Under this alternative, hunting and fishing opportunities would be expanded. At Wheeler Refuge, the number of hunting days for small game would be increased within the state hunting season framework and two additional youth fishing rodeos would be held annually. The 2,000 acres around Garth Slough, presently closed to all public entry from November 15 through January 15, would be evaluated for the possible opening of portions of the upland areas to public access under existing gate closure policy; thereby providing additional hunting and other public use opportunities. In addition, the hunting of feral hogs would be allowed during both the large game and small game seasons. At Key Cave Refuge, feral hogs would be added to the hunting permit and other hunting opportunities would be explored annually.

Increased wildlife observation and photography opportunities would result from the construction of nine new visitor facilities (e.g., three photo blinds, three wildlife observation towers, a wildlife viewing platform, a nature trail, and a wildlife drive) and the rehabilitation of existing visitor facilities. Environmental education and interpretation would be expanded by increasing the number of off-refuge programs with local schools and by constructing a new environmental education center at Wheeler Refuge. New informational brochures would be published for Key Cave, Sauta Cave, and Fern Cave Refuges and visitor access would be improved at Sauta Cave Refuge.

Additional resources would be required to accomplish the goals of this alternative. Personnel priorities would include employing additional education specialists, wildlife biologists, a law enforcement officer, and an education coordinator.

Alternative C would maximize wildlife/habitat management by providing for the restoration of native wildlife, fish, and plant communities and the health of those communities, while maintaining current public use opportunities. Federally listed species would be of primary concern, but needs of other resident and migratory wildlife would also be considered. At each refuge, extensive wildlife, plant, and habitat inventories would be initiated to obtain the biological information needed to implement and monitor management programs.

Studies necessary to reduce impacts of contaminants to fish, wildlife, and plants would be developed and a complex-wide litter control program would be initiated. Research would also be initiated to explore methods for increasing conservation efforts for threatened and endangered species on Key Cave, Sauta Cave, and Fern Cave Refuges.

Habitat management programs for waterfowl impoundments, old field, cropland, grassland, and forests would be re-evaluated and step-down management plans would be developed or updated to meet the foraging, resting, and breeding requirements for a variety of species, particularly migratory birds. Any areas within the Complex with pumping capabilities and water control structures would be managed for moist-soil vegetation, or would be farmed (with 100 percent of crops left standing) to benefit migratory waterfowl. Cooperative farming would be eliminated and all farming activities would be conducted via contracts or force account using Complex staff and equipment. Farming fields would be planted in milo, corn, or soybeans (in order of preference) and flooded during the late fall and winter. Beaver control would be increased by expanding the contract with USDA's Wildlife Services and forestry management would be increased.

Law enforcement activities to protect trust resources would be intensified and a study to analyze the impacts of existing rights-of-way on refuge resources would be initiated. Results would determine if current Complex policy concerning easements should be altered. Coordination with local planning and zoning departments would be increased to help minimize encroachment from urbanization.

Under this alternative, the priority of land acquisition at Fern Cave Refuge would remain focused on acquiring land surrounding the fifth cave entrance (Surprise Pit). Based on recommendations from the Alabama Comprehensive Wildlife Conservation Strategy, we would explore methods to protect lands within the lower reaches of Piney and Limestone Creeks close to Wheeler Refuge and lands within the Key Cave high risk water recharge zone close to Key Cave Refuge.

Compatible wildlife-dependent recreation activities would continue as currently scheduled, but only when and where they would not detract from, or conflict with, wildlife management activities and objectives. All Complex lands would be closed at night to the general public and select areas of high waterfowl use on Wheeler Refuge would be closed from November-March, reducing acreages for public hunting and eliminating all night bank fishing.

Administration plans would stress the need for increased maintenance of existing infrastructure and construction of new facilities, benefiting wildlife conservation. Additional resources would be required to accomplish the goals of this alternative. Personnel priorities would include employing additional wildlife biologists, biological technicians, maintenance workers, a law enforcement officer, a contamination specialist, and a forester.

Alternative D, our proposed alternative, would balance wildlife/habitat management and compatible wildlife-dependent public use. It was developed based on public comments received during scoping, and the best professional judgment of the Complex staff, biological review team, public use review team, and the comprehensive conservation planning team. Under this alternative, existing management activities would continue and some would be expanded.

This alternative would strive for a balanced approach to addressing key issues and refuge mandates, while improving wildlife and habitat management on each refuge in the Complex. It is designed to optimize habitat management for the restoration and protection of the refuge's biological diversity, while providing a balance of appropriate and compatible wildlife-dependent recreational and educational programs for visitors. Under Alternative D, refuge lands would be more intensively managed than at present to provide high-quality habitat for wildlife, particularly migratory birds. Areas within the Complex with water control capabilities would be managed for moist-soil vegetation or would be force-account farmed (with 100 percent of crops left standing) to benefit migratory waterfowl. Cooperative farming fields would be planted in corn or soybeans (in order of preference) and flooded during the late fall and winter.

Studies necessary to reduce impacts of contaminants on fish, wildlife, and plants would be developed and a complex-wide litter control program would be initiated. Research would also be initiated to explore methods for increasing conservation efforts for threatened and endangered species on Key Cave, Sauta Cave, and Fern Cave Refuges.

A large majority of Complex lands would be closed at night and select areas of high waterfowl use on Wheeler Refuge would be closed from November-March, slightly reducing acreages for both public hunting and night bank fishing. However, all six improved boat launching facilities and several other designated night bank fishing areas would remain open at night. A free night fishing permit would be required. This action would help reduce illegal activities and human disturbance to wildlife.

Habitat management programs for waterfowl impoundments, old field, cropland, grassland, and forests would be re-evaluated and step-down management plans would be developed or updated to meet the foraging, resting, and breeding requirements for a variety of species, particularly migratory birds.

Law enforcement activities to protect resources and provide visitor safety would be intensified and a study to analyze the impacts of existing rights-of-way on resources would be initiated. Results would determine if current Complex policy concerning easements should be altered. Coordination with local planning and zoning departments would be increased to help minimize encroachment from urbanization. Under this alternative, the priority of land acquisition at Fern Cave Refuge would remain focused on acquiring land surrounding the fifth cave entrance (Surprise Pit). Based on recommendations from the Alabama Comprehensive Wildlife Conservation Strategy, we would explore methods to protect lands within the lower reaches of Piney and Limestone Creeks close to Wheeler Refuge and lands within the Key Cave high risk water recharge zone close to Key Cave Refuge.

Hunting and fishing would continue with greater emphasis on increasing opportunities and enhancing the quality of the experience. At Wheeler Refuge, the number of hunting days for small game would be increased within the state hunting season framework and an additional youth fishing rodeo would be held annually. Feral hogs would be hunted during both the large game and small game seasons. At Key Cave Refuge, the hunting program would be evaluated annually. Results would dictate if the hunting program should be expanded or reduced.

Increased wildlife observation and photography opportunities would result from the construction of four visitor facilities (e.g., a photo blind, a wildlife observation tower, a wildlife viewing platform, and a wildlife drive) and the rehabilitation of existing visitor facilities. Environmental education and interpretation would be expanded by increasing the number of off-refuge programs with local schools and by constructing an environmental education center at Wheeler Refuge. New informational brochures would be published for Key Cave, Sauta Cave, and Fern Cave Refuges and visitor access would be improved at Sauta Cave Refuge. Administration plans would balance restoration efforts between habitat management and public use needs. Additional resources would be required to accomplish the goals of this alternative. Personnel priorities would include employing additional wildlife biologists, biological technicians, maintenance workers, assistant managers, an education coordinator, a law enforcement officer, and a contamination specialist.

Some management programs would occur regardless of which alternative is selected for implementation. Features or actions common to all four alternatives are identified and summarized below.

• Fish and Aquatic Species—Cooperation with the Alabama Division of Wildlife and Freshwater Fisheries for fisheries monitoring, implementing aquatic habitat improvement projects, and conducting game and non-game fish surveys would continue and increase as opportunities become available.

• Fire Management—Suppression of all wildland fires would continue. Prescribed fire may be used, in conjunction with other refuge management tools, to reduce hazard fuels, restore natural processes and vitality of ecosystems, improve wildlife habitat, remove or reduce non-native species, and conduct research.

• Monitoring—Existing migratory bird monitoring, including waterfowl surveys, bald eagle surveys, Christmas bird counts, call counts, and breeding bird surveys, would continue. More specific monitoring activities may increase to meet other objectives.

• Research—Special use permits would be issued on a case-by-case basis to universities, partners, and other interested parties to perform compatible, appropriate wildlife-related research and/or surveying. Research would continue to be encouraged to evaluate contaminant levels and their impacts on wildlife.

• Cultural Resource Protection—Current cultural resource protection efforts would continue, including a partnership with the Tennessee Valley Authority to conduct bank stabilization projects at Wheeler Refuge. Efforts to increase cultural resource protection through education and inventories would be explored.

• Partnerships—To aid and promote refuge management programs, currently established partnerships with agencies, organizations, and individuals would continue. Additional partnerships would be welcomed.

• Volunteer Program—The volunteer program would continue and would grow as more individuals become interested in volunteering.

• Private Lands Management—Technical assistance for private land management would continue to be offered through the Service's Partners for Fish and Wildlife Program. Efforts to expand the program would be explored.

• Restrictions/Limitations and Prohibitions—All-terrain vehicle use would continue to be prohibited on all refuges in the Complex. Key Cave, Sauta Cave, and Fern Cave Refuges would continue to be closed at night and horseback riding would continue to be prohibited on these satellite refuges.

We will present the Draft CCP/EA to the public at a meeting to be held at Wheeler Refuge's Visitor Center on U.S. Highway 67, in Decatur, Alabama. Mailings, newspaper articles, and posters will be the avenues to inform the public of the date and time for the meeting. We will conduct the environmental review of this project in accordance with the requirements of the National Environmental Policy Act of 1969, as amended (42 U.S.C. 4321 et seq.); NEPA Regulations (40 CFR parts 1500-1508); other appropriate Federal laws and regulations; and our policies and procedures for compliance with those regulations. All comments received become part of the official public record. Requests for such comments will be handled in accordance with the Freedom of Information Act NEPA (40 CFR 1506.6(f), and Departmental and Service policies and procedures.

Authority: This notice is published under the authority of the National Wildlife Refuge System Improvement Act of 1997, Public Law 105-57.

Dated: February 8, 2007.
Cynthia K. Dohner,
Acting Regional Director.

[FR Doc. E7-6346 Filed 4-4-07; 8:45 am]

BILLING CODE 4310-55-P